SECURITIES AND EXCHANGE COMMISSION

[Investment Company Act Release No. 33088]

Notice of Applications for Deregistration Under Section 8(f) of the Investment Company Act of 1940

April 27, 2018.

The following is a notice of applications for deregistration under section 8(f) of the Investment Company Act of 1940 for the month of April 2018. A copy of each application may be obtained via the Commission's website by searching for the file number, or for an applicant using the Company name box, at http://www.sec.gov/search/search.htm or by calling (202) 551-8090. An order granting each application will be issued unless the SEC orders a hearing.

Interested persons may request a hearing on any application by writing to the SEC's Secretary at the address below and serving the relevant applicant with a copy of the request, personally or by mail. Hearing requests should be received by the SEC by 5:30 p.m. on May 22, 2018, and should be accompanied by proof of service on applicants, in the form of an affidavit or, for lawyers, a certificate of service. Pursuant to Rule 0-5 under the Act, hearing requests should state the nature of the writer's interest, any facts bearing upon the desirability of a hearing on the matter, the reason for the request, and the issues contested. Persons who wish to be notified of a hearing may request notification by writing to the Commission's Secretary.

ADDRESSES: The Commission: Secretary, U.S. Securities and Exchange Commission, 100 F Street NE, Washington, DC 20549-1090.

FOR FURTHER INFORMATION CONTACT: Shawn Davis, Branch Chief, at (202) 551-6413 or Chief Counsel's Office at (202) 551-6821; SEC, Division of Investment Management, Chief Counsel's Office, 100 F Street NE, Washington, DC 20549-8010.

PNC Advantage Funds [File No. 811-07850]

Summary: Applicant seeks an order declaring that it has ceased to be an investment company. The applicant has transferred its assets to PNC Treasury Plus Money Market Fund, a series of PNC Funds, and, on March 1, 2018, made a final distribution to its shareholders based on net asset value. Expenses of approximately $77,886.98 incurred in connection with the reorganization were paid by the investment adviser of the applicant and of the acquiring fund.

Filing Dates: The application was filed on April 10, 2018, and amended on April 25, 2018.

Applicant's Address: One East Pratt Street, 5th Floor, Baltimore, Maryland 21202.

Deutsche High Income Opportunities Fund, Inc. [File No. 811-21949]

Summary: Applicant, a closed-end investment company, seeks an order declaring that it has ceased to be an investment company. On March 16, 2018, applicant made a liquidating distribution to its shareholders, based on net asset value. Expenses of $13,157 incurred in connection with the liquidation were paid by the applicant.

Filing Date: The application was filed on April 24, 2018.

Applicant's Address: 345 Park Avenue, New York, New York 10154.

For the Commission, by the Division of Investment Management, pursuant to delegated authority.
Robert W. Errett,
Deputy Secretary.

[FR Doc. 2018-09345 Filed 5-2-18; 8:45 am]

BILLING CODE 8011-01-P